DEPARTMENT OF JUSTICE

Antitrust Division

Notice Pursuant to the National Cooperative Research and Production Act of 1993—Cooperative Research Group on Evaluation of Distributed Leak Detection Systems—Performance Testing

Notice is hereby given that, on April 6, 2012, pursuant to Section 6(a) of the National Cooperative Research and Production Act of 1993, 15 U.S.C. 4301 et seq. (“the Act”), Southwest Research Institute—Cooperative Research Group on Evaluation of Distributed Leak Detection Systems—Performance Testing (“LDS-PT”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Upstream Research Co., Houston, TX; and Shell Exploration & Production Co., Houston, TX. The general area of LDS-PT's planned activity is to determine the applicability of using various fiber-optic-based leak detection systems for offshore pipelines. Laboratory testing of distributed temperature and distributed acoustic systems will be performed to establish their sensitivity over a range of conditions.

Patricia A. Brink,
Director of Civil Enforcement, Antitrust Division.

[FR Doc. 2012-10802 Filed 5-3-12; 8:45 am]

BILLING CODE P